DEPARTMENT OF TRANSPORTATION

Federal Aviation Administration

[Docket No. FAA-2001-9852]

High Density Traffic Airports; Allocation Procedures for Slot Exemptions at LaGuardia Airport

AGENCY: Federal Aviation Administration (FAA), DOT.

ACTION: Notice of petition to modify the lottery allocation procedures at LaGuardia Airport.

SUMMARY: Northwest Airlines, Inc. (Northwest) has petitioned the FAA to amend the adopted allocation procedures for allocating AIR-21 slot exemptions at LaGuardia. Specifically, Northwest requests to participate in the allocation of available AIR-21 slot exemptions at LaGuardia for service to small hub/nonhub airports with aircraft with fewer than 71 seats. A copy of Northwest's request has been placed in the docket.

DATES: Comments must be received December 7, 2004.

ADDRESSES: Comments on this notice should be mailed or delivered in duplicate to: U.S. Department of Transportation Dockets, Docket No. FAA-2001-9852, 400 Seventh Street SW., Room Plaza 4001, Washington, DC 20590. Comments may also be sent electronically to the following Internet address: http://DMS.dot.gov. Comments may be filed and/or examined in Room Plaza 401 between 10 a.m. and 5 p.m. weekdays except Federal holidays.

FOR FURTHER INFORMATION CONTACT: Lorelei Peter, (202) 267-3073, Operations and Air Traffic Law Branch, Regulations Division, Office of the Chief Counsel, Federal Aviation Administration, 800 Independence Avenue, SW., Washington, DC 20591.

SUPPLEMENTARY INFORMATION:

Comments Invited

Interested persons are invited to comment by submitting such written data, views, or arguments as they may desire. Comments that provide the factual basis supporting the views and suggestions presented are particularly helpful in developing reasoned decisions. Communications should identify the docket number and be submitted in duplicate to the above-specified address. All communications and a report summarizing any substantive public contact with FAA personnel on this notice will be filed in the docket. The docket is available for public inspection both before and after the closing date for receiving comments.

Before taking any final action on this petition, the Administrator will consider all comments made on or before the closing date for comments.

The FAA will acknowledge receipt of a comment if the commenter includes a self-addressed, stamped postcard with the comment. The postcard should be marked “Comments to Docket No. FAA-2001-9852.” When the FAA receives the comment, the postcard will be dated, time stamped, and returned to the commenter.

Issued in Washington, DC, on November 10, 2004.
James Whitlow,
Deputy Chief Counsel.

[FR Doc. 04-25452 Filed 11-16-04; 8:45 am]

BILLING CODE 4910-13-M